DEPARTMENT OF HEALTH AND HUMAN SERVICES

National Institutes of Health

Interagency Coordinating Committee on the Validation of Alternative Methods Biennial Progress Report: 2012-2013; Availability of Report

SUMMARY: The National Toxicology Program (NTP) Interagency Center for the Evaluation of Alternative Toxicological Methods (NICEATM) announces the availability of the Interagency Coordinating Committee on the Validation of Alternative Methods (ICCVAM) Biennial Progress Report: 2012-2013. This report describes ICCVAM and ICCVAM agency activities during the period from January 2012 through December 2013 and was prepared in accordance with requirements of the ICCVAM Authorization Act of 2000 (42 U.S.C. 285l-3).

ADDRESSES: The report is available at http://ntp.niehs.nih.gov/go/iccvam-bien.

FOR FURTHER INFORMATION CONTACT: Dr. Warren S. Casey, Director, NICEATM; email: warren.casey@nih.gov; telephone: (919) 316-4729.

SUPPLEMENTARY INFORMATION: Background: The ICCVAM Authorization Act of 2000 established ICCVAM as a permanent interagency committee of the National Institute of Environmental Health Sciences (NIEHS) under NICEATM. ICCVAM's mission is to facilitate development, validation, and regulatory acceptance of new and revised regulatory test methods that reduce, refine, or replace the use of animals in testing while maintaining and promoting scientific quality and the protection of human health, animal health, and the environment.

A provision of the ICCVAM Authorization Act states that ICCVAM shall prepare “reports to be made available to the public on its progress under this Act.” The first report was to be completed within 12 months of enactment of the Act, and subsequent reports were to be biennially thereafter. The sixth report is now available, and summarizes ICCVAM activities and accomplishments for the calendar years 2012 and 2013.

Summary of Report Contents: The main body of the ICCVAM Biennial Progress Report: 2012-2013 includes three chapters:

• Chapter 1 provides background information on ICCVAM and its role in coordinating evaluations of alternative toxicological methods and summarizes recent changes in the vision and direction of ICCVAM.

• Chapter 2 describes activities of ICCVAM and the 15 ICCVAM member agencies relevant to the development and validation of alternative test methods for eye safety testing, biologics and vaccine testing, development of tests to identify potential skin sensitizers, and other areas.

• Chapter 3 describes ICCVAM outreach, communication, and collaborative activities.

Availability of Report: The report is available as an electronic PDF document at http://ntp.niehs.nih.gov/go/iccvam-bien. All past ICCVAM annual and biennial reports are also available on this page.

Background Information on ICCVAM and NICEATM: ICCVAM is an interagency committee composed of representatives from 15 Federal regulatory and research agencies that require, use, generate, or disseminate toxicological and safety testing information. ICCVAM conducts technical evaluations of new, revised, and alternative safety testing methods and integrated testing strategies with regulatory applicability, and promotes the scientific validation and regulatory acceptance of testing methods that more accurately assess the safety and hazards of chemicals and products and replace, reduce, or refine (enhance animal well-being and lessen or avoid pain and distress) animal use.

The ICCVAM Authorization Act of 2000 (42 U.S.C. 285l-3) establishes ICCVAM as a permanent interagency committee of NIEHS and provides the authority for ICCVAM involvement in activities relevant to the development of alternative test methods. ICCVAM acts to ensure that new and revised test methods are validated to meet the needs of Federal agencies, increase the efficiency and effectiveness and Federal agency test method review, and optimize utilization of scientific expertise outside the Federal Government. Additional information about ICCVAM can be found at http://ntp.niehs.nih.gov/go/iccvam.

NICEATM provides support for ICCVAM and conducts data analyses, workshops, independent validation studies, and other activities to assess new, revised, and alternative test methods and strategies. NICEATM and ICCVAM work collaboratively to evaluate new and improved test methods and strategies applicable to the needs of U.S. Federal agencies. Additional information about NICEATM can be found at http://ntp.niehs.nih.gov/go/niceatm.

Dated: July 29, 2014.
John R. Bucher,
Associate Director, National Toxicology Program.

[FR Doc. 2014-18239 Filed 8-1-14; 8:45 am]

BILLING CODE 4140-01-P